FEDERAL COMMUNICATIONS COMMISSION

[GN Docket No. 14-28; DA 14-1410]

Panelist Information for Open Internet Roundtables

AGENCY: Federal Communications Commission.

ACTION: Notice.

SUMMARY: In this document, the Commission released a public notice announcing panelist names and other information for a series of roundtables. The intended effect of this document is to make the public aware of the event and the agenda for the roundtables.

DATES: Tuesday, October 7, 2014, 9:00 a.m.-12:30 p.m.

ADDRESSES: Federal Communications Commission, Commission Meeting Room (TW-C305), 445 12th Street SW., Washington, DC 20554.

FOR FURTHER INFORMATION CONTACT: Andrew Erber, Office of General Counsel at (202) 418-0678 or by email at Andrew.Erber@fcc.gov.

SUPPLEMENTARY INFORMATION: This is a summary of the Commission's document in GN Docket No. 14-28, DA 14-1410 released September 29, 2014. The complete text in this document is available for public inspection and copying during normal business hours in the FCC Reference Information Center, Portals II, 445 12th Street SW., Room CY-A257, Washington, DC 20554. The document may also be purchased from the Commission's duplicating contractor, Best Copy and Printing, Inc., 445 12th Street SW., Room CY-B402, Washington, DC 20554, telephone (800) 378-3160 or (202) 863-2893, facsimile (202) 863-2898, or via the Internet at http://www.bcpiweb.com. It is available on the Commission's Web site at http://www.fcc.gov.

The roundtable will be free and open to the public, and the FCC also will stream them live at http://www.fcc.gov/live. The location of the roundtable will be the Commission Meeting Room (TW-C305), 445 12th Street SW., Washington, DC 20554. The FCC will make available an overflow room for those in-person attendees who cannot be accommodated in the Commission Meeting Room. We advise persons planning to attend the roundtables in person to leave sufficient time to enter through building security.

The FCC encourages members of the public to submit suggested questions in advance and during the roundtables by email to roundtables@fcc.gov or on Twitter using the hashtag #FCCRoundtables. Please note that by submitting a question, you will be making a filing in an official FCC proceeding. All information submitted, including names, addresses, and other personal information contained in the message, may be publicly available online.

Reasonable accommodations for people with disabilities are available upon request. The request should include a detailed description of the accommodation needed and contact information. We ask that requests for accommodations be made as soon as possible in order to allow the agency to satisfy such requests whenever possible. Send an email to fcc504@fcc.gov or call the Consumer and Governmental Affairs Bureau at 202-418-0530 (voice), 202-418-0432 (TTY).

Proposed Agenda

The Office of General Counsel of the Federal Communications Commission (FCC) provides panelist names and other information about the final event in the Open Internet roundtable series: “Internet Openness and the Law,” which will take place on October 7, 2014. This roundtable was previously announced in a Public Notice. At that time, it was unclear whether the roundtable would be a “meeting” of the Commission. As such, that Notice was not published in the Federal Register. This Notice shall serve as notice that a quorum of Commissioners may be present at the roundtable, in compliance with part 0, subpart F of the Commission's rules. This Notice does not, however, change the “permit-but-disclose” status of the Open Internet proceeding under the Commission's ex parte rules.

Internet Openness and the Law

9:00-9:15 a.m.—Welcome and Opening Remarks

9:15-10:45 a.m.—Roundtable 1: Sources of Legal Authority

This roundtable will discuss the sources of authority on which the Commission could ground Open Internet rules, including a range of approaches relying on section 706, Title II, and other possible sources of authority.

Panelists:

Mark Cooper, Director of Research, Consumer Federation of America

Gus Hurwitz, Assistant Professor of Law, Nebraska College of Law

Pantelis Michalopoulos, Partner, Steptoe & Johnson LLP

Thomas Navin, Partner, Wiley Rein LLP

Nuala O'Connor, President and CEO, Center for Democracy and Technology

Tim Wu, Professor of Law, Columbia Law School

Moderators:

Jonathan Sallet, General Counsel, FCC

Stephanie Weiner, Special Advisor to the Chairman on Internet Law and Policy & Associate General Counsel, FCC

11:00 a.m.-12:30 p.m.—Roundtable 2: Construction of Legally Sustainable Rules

This roundtable will consider additional legal issues, including constitutional considerations, the nature of common-carriage regulation, and approaches to agency rulemaking and adjudication using tools like prescriptive rules, legal standards, prohibitions, and presumptions to protect and promote Internet openness.

Panelists:

Marvin Ammori, Fellow, New America Foundation

Anne Boyle, Commissioner, Nebraska Public Service Commission

Fred Campbell, Director, Center for Boundless Innovation in Technology

Julia Johnson, Chair, Minority Media & Telecommunications Council

Tejas Narechania, Julius Silver Research Fellow, Columbia Law School

John Windhausen, Jr., President, Telepoly Consulting

Federal Communications Commission.
Stephanie Weiner,
Associate General Counsel.

[FR Doc. 2014-23644 Filed 10-2-14; 8:45 am]

BILLING CODE 6712-01-P